GENERAL SERVICES ADMINISTRATION

Office of Small Business Utilization; Small Business Advisory Committee

Renewal of the Small Business Advisory Committee

AGENCY: Office of Small Business Utilization, GSA.

ACTION: Notice.

SUMMARY: Under the provisions of the Federal Advisory Committee Act of 1972, (5 U.S.C. Appendix, as amended), the Sunshine in the Government Act of 1976 (5 U.S.C. 552b, as amended), and 41 CFR 102-3.65, the U.S. General Services Administration gives notice that it intends to renew the Small Business Advisory Committee (SBAC), as a discretionary Federal advisory committee.

The Office of Small Business Utilization (OSBU) has responsibility for overseeing the General Services Administration’s (GSA) best efforts to achieve the small business procurement goals set by the Small Business Administration (SBA). Several procurement preference program goals (HUBZone, Service-Disabled Veteran, Women-Owned) have proven to be difficult for GSA and the Federal government as a whole to reach. Other procurement issues such as subcontracting, size standards, and availability of small manufacturers, impact the government beyond procurement goals.

As the Federal government’s primary contracting agency, GSA’s procurement practices and policies to a large extent affect all other Federal agencies. The GSA Small Business Advisory Committee (SBAC) was established by the OSBU to solicit the ideas and experience of association executives and small business owners in the hopes that their recommendations would serve to make the GSA small business program more effective in the future, and in turn, the entire Federal government’s program.

Committee members will represent a cross-section of various socio-economic groups and chambers of commerce. One member will be appointed from a chamber of commerce from each of the following socio-economic groups: African American, Asian American / Pacific Islander, Hispanic, Native American / Alaska Native, Veteran / Service-Disabled Veteran, and Women-owned businesses. Additional members may be selected based on their expertise in government contracting, doing business with the Federal government, and small business knowledge in general.

FOR FURTHER INFORMATION CONTACT: Aaron Collmann, Room 6029, GSA Building, 1800 F Street, NW., Washington, DC 20405 (202) 501-1021 or email at sbac@gsa.gov.

SUPPLEMENTARY INFORMATION: This notice is published in accordance with the provisions of the Federal Advisory Committee Act (FACA) (Pub. L. 92-463).

Dated: August 27, 2007
Michael J. Rigas
Deputy Associate Administrator,Office of Small Business Utilization,General Services Administration.

[FR Doc. 07-4282 Filed 8-28-07; 12:35 pm]

BILLING CODE 6820-34-S